DEPARTMENT OF ENERGY

Federal Energy Regulatory Commission

Combined Notice of Filings #1

Take notice that the Commission received the following electric corporate filings:

Docket Numbers: EC25-94-000.

Applicants: Entergy Arkansas, LLC, Crossover Wind LLC.

Description: Joint Application for Authorization Under Section 203 of the Federal Power Act of Entergy Arkansas, LLC, et al.

Filed Date: 5/30/25.

Accession Number: 20250530-5508.

Comment Date: 5 p.m. ET 6/20/25.

Docket Numbers: EC25-95-000.

Applicants: San Diego Gas & Electric Company.

Description: Application for Authorization Under Section 203 of the Federal Power Act of San Diego Gas & Electric Company.

Filed Date: 5/30/25.

Accession Number: 20250530-5509.

Comment Date: 5 p.m. ET 6/20/25.

Take notice that the Commission received the following exempt wholesale generator filings:

Docket Numbers: EG25-345-000.

Applicants: Elawan Cibeles Solar LLC.

Description: Elawan Cibeles Solar LLC submits Notice of Self-Certification of Exempt Wholesale Generator Status.

Filed Date: 6/3/25.

Accession Number: 20250603-5152.

Comment Date: 5 p.m. ET 6/24/25.

Take notice that the Commission received the following Complaints and Compliance filings in EL Dockets:

Docket Numbers: EL25-89-000.

Applicants: Duke Energy Carolinas, LLC, Duke Energy Progress, LLC and Duke Energy Indiana, LLC.

Description: Petition for Declaratory Order, Blanket Authorizations, and Waivers of Duke Energy Carolinas, LLC, Duke Energy Progress, LLC, and Duke Energy Indiana, LLC.

Filed Date: 5/30/25.

Accession Number: 20250530-5475.

Comment Date: 5 p.m. ET 6/30/25.

Take notice that the Commission received the following electric rate filings:

Docket Numbers: ER10-2739-036; ER14-1219-015; ER16-1732-014; ER17-993-013; ER20-660-010; ER18-95-010; ER10-2729-015; ER21-202-002; ER17-989-013; ER10-1892-023; ER10-1854-020; ER22-425-003; ER17-990-013; ER17-1946-013; ER17-1947-007; ER17-1948-007; ER21-1133-003; ER16-1652-023; ER11-3320-020; ER14-2548-011; ER22-1241-002; ER10-2744-021; ER16-2406-015; ER16-2405-014; ER10-1618-018; ER13-2316-018; ER17-992-013; ER10-2678-021; ER10-1631-020; ER11-3321-013; ER14-19-019; ER20-1440-006.

Applicants: Yards Creek Energy, LLC, West Deptford Energy, LLC, Wallingford Energy LLC, University Park Energy, LLC, Troy Energy, LLC, Springdale Energy, LLC, Seneca Generation, LLC, Rolling Hills Generating, L.L.C., Rockford Power II, LLC, Rockford Power, LLC, Riverside Generating Company, L.L.C., REV Energy Marketing, LLC, Ocean State Power, LSP University Park, LLC, LifeEnergy LLC, Hummel Station, LLC, Helix Ravenswood, LLC, Helix Maine Wind Development, LLC, Helix Ironwood, LLC, Gans Energy, LLC, Enerwise Global Technologies, LLC, Doswell Limited Partnership, Columbia Energy LLC, Chambersburg Energy, LLC, Centrica Business Solutions Optimize, LLC, Buchanan Generation, LLC, Buchanan Energy Services Company, LLC, Bolt Energy Marketing, LLC, Bath County Energy, LLC, Aurora Generation, LLC, Armstrong Power, LLC, LS Power Marketing, LLC.

Description: Response to 05/02/2025 Deficiency Letter of Rolling Hills Generating, L.L.C.

Filed Date: 6/2/25.

Accession Number: 20250602-5261.

Comment Date: 5 p.m. ET 6/23/25.

Docket Numbers: ER15-190-022; EL24-27-000; ER19-1819-006; ER19-1820-006; ER19-1821-006; ER18-1343-016; ER21-2426-002.

Applicants: CPRE 1 Lessee, LLC, Carolina Solar Power, LLC, Speedway Solar NC, LLC, Stony Knoll Solar, LLC, Broad River Solar, LLC, Duke Energy Commercial Enterprises, LLC, Duke Energy Renewable Services, LLC.

Description: Response to Show Cause Order to December 7, 2023, Order on Updated Market Power Analysis, Instituting Section 206 Proceeding, and Establishing Refund Effective Date re Duke Energy Commercial Enterprises, LLC et al.

Filed Date: 2/2/24.

Accession Number: 20240202-5237.

Comment Date: 5 p.m. ET 6/25/25.

Docket Numbers: ER17-2364-008.

Applicants: St. Joseph Energy Center, LLC.

Description: Notice of Change in Status of St. Joseph Energy Center, LLC.

Filed Date: 6/3/25.

Accession Number: 20250603-5188.

Comment Date: 5 p.m. ET 6/24/25.

Docket Numbers: ER23-113-002; ER19-115-004; ER23-2899-002; ER24-619-003; ER24-773-002; ER24-2220-003; ER25-1446-001.

Applicants: MS Solar 7, LLC, FL Solar 7, LLC, Escalante Solar, LLC, MS Solar 5, LLC, MS Solar 6, LLC, FL Solar 5, LLC, AL Solar D, LLC.

Description: Notice of Change in Status of AL Solar D, LLC, et al.

Filed Date: 5/30/25.

Accession Number: 20250530-5506.

Comment Date: 5 p.m. ET 6/20/25.

Docket Numbers: ER25-2017-000; ER25-2018-000.

Applicants: Roadrunner Battery Storage LLC, Roadrunner Solar LLC.

Description: Supplement to April 23, 2025, Roadrunner Solar LLC, et al. tariff filing.

Filed Date: 5/30/25.

Accession Number: 20250530-5504.

Comment Date: 5 p.m. ET 6/13/25.

Docket Numbers: ER25-2043-000.

Applicants: Shallow Basket Energy, LLC.

Description: Shallow Basket Energy, LLC submits supplement to Application and Request for Shortened Comment Period and Expedited Treatment.

Filed Date: 6/2/25.

Accession Number: 20250602-5182.

Comment Date: 5 p.m. ET 6/12/25.

Docket Numbers: ER25-2368-000.

Applicants: Michigan Electric Transmission Company LLC.

Description: Motion of Michigan Electric Transmission Company, LLC for Leave to Supplement the Administrative Record and Request for New Effective Date.

Filed Date: 5/30/25.

Accession Number: 20250530-5076.

Comment Date: 5 p.m. ET 6/25/25.

Docket Numbers: ER25-2368-000.

Applicants: Michigan Electric Transmission Company LLC.

Description: Amendment to Belle River Transmission Ownership and Operating Agreement of Michigan Electric Transmission Company, LLC.

Filed Date: 5/23/25.

Accession Number: 20250523-5306.

Comment Date: 5 p.m. ET 6/25/25.

Docket Numbers: ER25-2417-000.

Applicants: Midcontinent Independent System Operator, Inc.

Description: 205(d) Rate Filing: 2025-06-03_Att X—to include 2023 Cycle in JTIQ Process to be effective 8/3/2025.

Filed Date: 6/3/25.

Accession Number: 20250603-5149.

Comment Date: 5 p.m. ET 6/24/25.

Docket Numbers: ER25-2418-000.

Applicants: Midcontinent Independent System Operator, Inc.

Description: 205(d) Rate Filing: 2025-06-03_MISO SPP JOA to add 2023 Cycle in JTIQ to be effective 8/3/2025.

Filed Date: 6/3/25.

Accession Number: 20250603-5150.

Comment Date: 5 p.m. ET 6/24/25.

Docket Numbers: ER25-2419-000.

Applicants: Black Hills Colorado Electric, LLC.

Description: 205(d) Rate Filing: Limited-Scope, Single Issue Filing to Revise Depreciation Rates to be effective 3/22/2025.

Filed Date: 6/3/25.

Accession Number: 20250603-5154.

Comment Date: 5 p.m. ET 6/24/25.

Docket Numbers: ER25-2420-000.

Applicants: Southwest Power Pool, Inc.

Description: 205(d) Rate Filing: SPP-MISO JOA Revisions to Include the MISO 2023 DPP Cycle in the JTIQ Process to be effective 8/3/2025.

Filed Date: 6/3/25.

Accession Number: 20250603-5155.

Comment Date: 5 p.m. ET 6/24/25.

Docket Numbers: ER25-2421-000.

Applicants: Consolidated Edison Company of New York, Inc.

Description: 205(d) Rate Filing: 97 NYPA REACH 6-3-2025 to be effective 6/4/2025.

Filed Date: 6/4/25.

Accession Number: 20250604-5000.

Comment Date: 5 p.m. ET 6/25/25.

Docket Numbers: ER25-2422-000; TS25-2-000.

Applicants: CPV Backbone Solar, LLC, CPV Backbone Solar, LLC.

Description: Request for Temporary Waiver of Open Access Requirements of CPV Backbone Solar, LLC and Standards of Conduct requirements.

Filed Date: 5/30/25.

Accession Number: 20250530-5502.

Comment Date: 5 p.m. ET 6/20/25.

Docket Numbers: ER25-2423-000.

Applicants: Midcontinent Independent System Operator, Inc., Ameren Illinois Company.

Description: 205(d) Rate Filing: Ameren Illinois Company submits tariff filing per 35.13(a)(2)(iii): 2025-06-04_SA 2880 Att A Proj Spec No. 12 WVPA-Delhi Load Addition to be effective 8/4/2025.

Filed Date: 6/4/25.

Accession Number: 20250604-5044.

Comment Date: 5 p.m. ET 6/25/25.

Docket Numbers: ER25-2424-000.

Applicants: White Tail Solar, LLC.

Description: 205(d) Rate Filing: Revised Market-Based Rate Tariff Filing to be effective 8/4/2025.

Filed Date: 6/4/25.

Accession Number: 20250604-5086.

Comment Date: 5 p.m. ET 6/25/25.

Docket Numbers: ER25-2425-000.

Applicants: Midcontinent Independent System Operator, Inc., International Transmission Company, ITC Interconnection LLC.

Description: 205(d) Rate Filing: ITC Interconnection LLC submits tariff filing per 35.13(a)(2)(iii): 2025-06-04_ITC Transmission Request for Incentives to be effective 8/4/2025.

Filed Date: 6/4/25.

Accession Number: 20250604-5091.

Comment Date: 5 p.m. ET 6/25/25.

Docket Numbers: ER25-2426-000.

Applicants: Midcontinent Independent System Operator, Inc., ITC Midwest LLC.

Description: 205(d) Rate Filing: ITC Midwest LLC submits tariff filing per 35.13(a)(2)(iii): 2025-06-04_ITC Midwest Request for Incentives to be effective 8/4/2025.

Filed Date: 6/4/25.

Accession Number: 20250604-5110.

Comment Date: 5 p.m. ET 6/25/25.

Docket Numbers: ER25-2427-000.

Applicants: The Dayton Power and Light Company.

Description: 205(d) Rate Filing: AES Ohio and Amazon Service Agreement to be effective 8/4/2025.

Filed Date: 6/4/25.

Accession Number: 20250604-5116.

Comment Date: 5 p.m. ET 6/25/25.

Docket Numbers: ER25-2428-000.

Applicants: PJM Interconnection, L.L.C.

Description: 205(d) Rate Filing: Amendment to ISA, SA No. 6704; Queue No. AF1-093 to be effective 8/4/2025.

Filed Date: 6/4/25.

Accession Number: 20250604-5118.

Comment Date: 5 p.m. ET 6/25/25.

Take notice that the Commission received the following electric securities filings:

Docket Numbers: ES25-48-000.

Applicants: Northern Indiana Public Service Company LLC.

Description: Application Under Section 204 of the Federal Power Act for Authorization to Issue Securities of Northern Indiana Public Service Company LLC.

Filed Date: 5/30/25.

Accession Number: 20250530-5510.

Comment Date: 5 p.m. ET 6/20/25.

The filings are accessible in the Commission's eLibrary system (https://elibrary.ferc.gov/idmws/search/fercgensearch.asp) by querying the docket number.

Any person desiring to intervene, to protest, or to answer a complaint in any of the above proceedings must file in accordance with Rules 211, 214, or 206 of the Commission's Regulations (18 CFR 385.211, 385.214, or 385.206) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

The Commission's Office of Public Participation (OPP) supports meaningful public engagement and participation in Commission proceedings. OPP can help members of the public, including landowners, community organization, Tribal members and others, access publicly available information and navigate Commission processes. For public inquiries and assistance with making filings such as interventions, comments, or requests for rehearing, the public is encouraged to contact OPP at (202) 502-6595 or OPP@ferc.gov.

Dated: June 4, 2025.
Carlos D. Clay,
Deputy Secretary.

[FR Doc. 2025-10482 Filed 6-9-25; 8:45 am]

BILLING CODE 6717-01-P